DEPARTMENT OF HEALTH AND HUMAN SERVICES

Centers for Disease Control and Prevention

[Program Announcement 02180]

Centers of Excellence for Environmental Public Health Tracking; Notice of Availability of Funds

A. Purpose

The Centers for Disease Control and Prevention (CDC) announces the availability of fiscal year (FY) 2002 funds for a cooperative agreement program to support Centers of Excellence for Environmental Public Health Tracking. This program addresses the “Healthy People 2010” focus areas of Environmental Health and Public Health Infrastructure.

The purpose of the program is to provide expertise and support to State and local health departments in (1) the development and utilization of data from State and national environmental public health tracking (surveillance) networks and (2) the investigation of the potential links between health effects and the environment.

Additional information about the National Environmental Public Health Tracking (surveillance) Network is provided in Appendix I.

Measurable outcomes of the program will be in alignment with the following performance goal for the National Center for Environmental Health (NCEH): Increase the understanding of the relationship between environmental exposures and health effects.

B. Authority and Catalog of Federal Domestic Assistance Number

This program is authorized under section 301 of the Public Health Service Act, [42 U.S.C. section 241], as amended. The Catalog of Federal Domestic Assistance number is 93.283.

C. Eligible Applicants

Assistance will be provided only to United States Schools of Public Health accredited by the Council on Education of Public Health that are associated with or have access to programs in environmental epidemiology, environmental sciences, health education, health communication, clinical medicine, and medical informatics. Eligibility is limited to these applicants because they provide (1) the technical expertise in the wide range of disciplines needed to further develop the theoretical and scientific base for environmental public health tracking (surveillance) and develop and test for new methodology essential to support State and local programs; and (2) a training ground for the nation's future environmental public health workforce. This wide range of disciplines and expertise is often unavailable or difficult to access by State or local public health agencies, yet will be required for an environmental public health tracking network to fulfill all the critical functions of a public health surveillance system.

Note: Title 2 of the United States Code section 1611 states that an organization described in section 501(c)(4) of the Internal Revenue Code that engages in lobbying activities is not eligible to receive Federal funds constituting an award, grant or loan.

D. Availability of Funds

Approximately $2,000,000 is available in FY 2002 to fund approximately three awards. It is expected that the average award will be $650,000, ranging from $550,000 to $750,000. It is expected that the awards will begin on or about September 30, 2002, and will be made for a 12-month budget period within a project period of up to three years. Funding estimates may change.

Continuation awards within an approved project period will be made on the basis of satisfactory progress as evidenced by required reports and the availability of funds.

Funding Preferences

These Centers will serve as sources of expertise for recipients of funding for the National Environmental Public Health Tracking (surveillance) Program (Program Announcement 02179); preference may be given to the establishment of Centers of Excellence in different geographic areas of the United States. Matching funds are not required for this program announcement.

E. Program Requirements

In conducting activities to achieve the purpose of this program, the recipient will be responsible for the activities under 1. Recipient Activities, and CDC will be responsible for the activities listed under 2. CDC Activities.

1. Recipient Activities

a. Develop and implement a work plan to address recipient activities 1.b through 1.j.

b. Attend workgroups with Environmental Public Health Tracking (surveillance) Program partners to develop standardized data definitions; examine the availability and applicability of existing data standards and data exchange messages (Industry standards include, but are not limited to the Health Level Seven (HL7) Reference Information Model and its vocabularies.); define new data specifications based on these standards as needed in collaboration with national standards setting organizations; define a logical data model and data exchange messages for implementing the Environmental Public Health Tracking (surveillance) Network; and set standards for completeness, timeliness, and quality for the Statewide and National Environmental Public Health Tracking (surveillance) Network.

c. Evaluate current surveillance methodology and develop innovative, cost-effective data collection strategies (including consideration of non-traditional data sources) that State and local health departments can use to obtain valid, high quality data on environmental health effects, exposures, and hazards.

d. Develop data linkage methods for combined analysis of health and environmental data that could be utilized by State and local environmental public health programs in building an environmental public health tracking (surveillance) network.

e. Develop statistical algorithms for State and local environmental public health programs to analyze trends and detect patterns of health effects occurrence, population exposure, or hazard levels in the environment that may indicate a problem.

f. Conduct an epidemiology study examining the relationship between a health effect, and an environmental exposure and/or hazard in collaboration with environmental public health tracking program partners (see information about State and local health departments and Program Announcement 02179 in Appendix I) This will require the development of a research protocol for Institutional Review Board (IRB) review by all cooperating institutions participating in the research project. The CDC IRB will initially review and approve the protocol with a minimum of an annual review until the research project is completed.

g. Examine the feasibility of using the Environmental Public Health Indicators (EPHI) Project (see list of other selected references in Appendix I) for surveillance in collaboration with State and local health departments participating in the National Environmental Public Health Tracking Program (Program Announcement 02179—see Appendix I). The applicant should support State/local health departments in determining how proposed EPHI fit into identified State and local priorities, examining whether the proposed EPHI are realistic in terms of available data and integration of these data, assessing whether the selected measures could be useful for State or local program and policy planning, and determining the accuracy of selected measures for community health assessment.

h. Communicate project accomplishments, barriers, and lessons learned with Environmental Public Health Tracking (surveillance) Program partners, and other critical stakeholders by attending stakeholders meetings and quarterly conference calls, and by posting information and query responses to an environmental public health tracking (surveillance) Web site.

i. Provide support to State and local health departments participating in the National Environmental Public Health Tracking Program (Program Announcement 02179—see Appendix I) by developing, disseminating, and evaluating communication strategies for health effect, exposure, and hazard information from an environmental public health tracking (surveillance) network that take into account risk perception differences among various audiences.

j. In collaboration with State and local health departments participating in the National Environmental Public Health Tracking Program, develop training tools and provide training to State and local partners. Training activities should focus on two of the following areas: public health surveillance methods, environmental assessment, biomonitoring, evaluation, or risk communication.

2. CDC Activities

a. Foster relationships among Centers of Excellence and State and local health departments by assisting in the sharing of information through an environmental public health tracking (surveillance) web site, an annual stakeholders meeting, and direct interactions.

b. Convene workgroups to: develop standardized data definitions; examine the availability and applicability of existing data standards and data exchange messages (Industry standards include, but are not limited to the HL7 Reference Information Model and its vocabularies); define new data specifications based on these standards as needed in collaboration with national standards setting organizations; define a logical data model and data exchange messages for implementing the Environmental Public Health Tracking (surveillance) Network; and set standards for completeness, timeliness, and quality for the Statewide and National Environmental Public Health Tracking (surveillance) Network.

c. Participate in designing, developing, and evaluating surveillance methods.

d. Participate in the development of statistical algorithms to analyze trends and detect patterns of health effects occurrence, population exposure, or hazard levels in the environment that may indicate a problem.

e. Participate in the protocol development, study implementation, data analysis, interpretation of results, and dissemination of epidemiology study findings including report writing and oral presentation.

f. Assist in the development of a research protocol for IRB review by all cooperating institutions participating in the research project. The CDC IRB will initially review and approve the protocol with a minimum of annual review until the research project is completed.

g. Provide assistance in development of training materials on surveillance methods, evaluation, risk communication, and other topics for State and local agencies and other Environmental Public Health Tracking (surveillance) Program partners.

h. Assist with dissemination of information about strategies for communicating health effect, exposure, and hazard information from an environmental public health tracking (surveillance) network.

F. Content

Pre-application conference call: Two pre-application conference calls will be scheduled for interested applicants. These will occur August 1, 2002 from 3-5 p.m. (eastern standard time [EST]) and August 2, 2002 from 1-3 p.m. (EST). The purpose of these calls is to review program requirements and to respond to any questions regarding the program announcement. Two calls are scheduled in order to provide all applicants the opportunity to gather information and ask questions. It is not necessary to participate in both calls, though applicants are welcome to do so if they desire. To register to participate, applicants should send an e-mail or write Regina Seider at rseider@cdc.gov <mailto:rseider@cdc.gov> or CDC/NCEH/EHHE, 1600 Clifton Rd. NE, MS-E19, Atlanta GA 30333.

Letter of Intent (LOI)

A LOI is required for this program. The program announcement title and number must appear in the LOI. The narrative should be no more than two pages, double-spaced, printed on one side, with one-inch margins, and unreduced fonts. Your letter of intent will be used to enable CDC to determine level of interest in the announcement and estimate potential review workload, and should include the following information:

1. Program announcement number and title

2. Name, organization, address, telephone number, fax number, and e-mail address of the Principal Investigator(s)

3. List of key collaborators and affiliations.

Applications

The program announcement title and number must appear in the application. Use the information in the Program Requirements, Other Requirements, and Evaluation Criteria sections to develop the application content. Your application will be evaluated on the criteria listed, so it is important to follow them in laying out your program plan. The narrative should be no more than 30 pages, double-spaced, printed on one side, with one-inch margins, and unreduced fonts.

Applicants should also submit appendices including curriculum vitae, letters of support, and other similar supporting information. The total appendices should not exceed 25 pages, printed on one side.

All pages in the application should be clearly numbered and a complete index to the application and any appendices included. All materials should be provided in an unbound, one-sided, print format, suitable for photocopying.

The applicant should provide a detailed description of first-year objectives and activities and briefly describe future-year objectives and activities. The application must contain the following:

1. Executive Summary (Two Pages, Double-spaced)

Provide a clear concise summary of the application, which includes a description of the activities to be undertaken.

2. The Narrative

Should specifically address the “Program Requirements” and should contain the following sections:

a. Understanding of the problem

b. Collaborative relationships

c. Goals and objectives

d. Methods

e. Project management and staffing

3. Budget and Justification

a. Provide a detailed budget and line-item justification of all proposed operating expenses consistent with the program activities described in this announcement.

b. The annual budget should include funding for three staff members to make three trips to Atlanta, for three days for stakeholders meetings or workshops and one two-day trip to Atlanta for a reverse site visit.

c. If applicable, applicants requesting monies for contracts should include the name of the person or firm to be contracted, a description of services to be performed, an itemized and detailed budget including justification, the period of performance and the method of selection.

d. Funding levels for years two to three should be estimated.

G. Submission and Deadline

Letter of Intent (LOI)

On or before August 5, 2002, submit the LOI to the Grants Management Specialist identified in the “Where to Obtain Additional Information” section of this announcement.

Application

Submit the original and two copies of PHS 5161-1 (OMB Number 0920-0428). Forms are available at the following Internet address: http://www.cdc.gov/od/pgo/forminfo.htm. Forms may also be obtained by contacting the Grants Management Specialist identified in the “Where to Obtain Additional Information” section of this announcement.Forms may not be submitted electronically.

Application forms must be submitted in the following order:

Cover Letter

Table of Contents

Application

Budget Information Form

Budget Justification

Checklist

Assurances

Certifications

Disclosure Form

HIV Assurance Form (if applicable)

Human Subjects Certification (if applicable)

Indirect Cost Rate Agreement (if applicable)

Executive Summary

Narrative

Appendices

The application must be received by 5 p.m. EST, August 22, 2002. Submit the application to: Technical Information Management Section, PA 02180, Procurement and Grants Office,Centers for Disease Control and Prevention,2920 Brandywine Road, Room 3000, Atlanta, GA 30341-4146.

Deadline: Letters of intent and applications shall be considered as meeting the deadline if they are received before 5 p.m. EST on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications that do not meet the above criteria will not be eligible for competition and will be discarded. Applicants will be notified of their failure to meet the submission requirements.

H. Evaluation Criteria

Applicants are required to provide Measures of Effectiveness that will demonstrate the accomplishment of the various identified objectives of the grant or cooperative agreement. Measures of Effectiveness must relate to the performance goal (or goals) as stated in section “A. Purpose” of this announcement. Measures must be objective and quantitative and must measure the intended outcome. These Measures of Effectiveness shall be submitted with the application and shall be an element of evaluation.

Each application will be evaluated individually against the following criteria by an independent review group appointed by CDC:

1. Methods (35 points)

The extent to which the applicant has clearly described the proposed methods to carrying out the various activities listed under section E. This includes a description of the rationale for selection of specific approaches and sound scientific methods for conducting surveillance, evaluations, and other activities. The extent to which the applicant describes methods to evaluate training, communications strategies, the impact of new surveillance and linkage methods and statistical algorithms on State/local health departments' ability to implement environmental public health tracking (surveillance).

In order to address CDC policy requirements, the following should also be addressed: Does the application adequately address the CDC Policy requirements regarding the inclusion of women, ethnic, and racial groups in the proposed research. This includes:

a. The proposed plan for the inclusion of both sexes and racial and ethnic minority populations for appropriate representation.

b. The proposed justification when representation is limited or absent.

c. A statement as to whether the design of the study is adequate to measure differences when warranted.

d. A statement as to whether the plans for recruitment and outreach for study participants includes the process of establishing partnerships with community or communities and recognition of mutual benefits.

2. Project Management and Staffing (20 points)

The extent to which roles and responsibilities are clearly delineated and management of coordination across various groups described. The extent to which the proposed staffing and staff experience and backgrounds as they relate to their roles and responsibilities indicate that the applicant is capable of carrying out this program. The resumes\curricula vita of key personnel should be included in the application.

3. Understanding of the Problem (15 points)

The extent to which the applicant has a clear, concise understanding of the requirements, objectives, and purpose of the cooperative agreement. The extent to which the application reflects an understanding of issues relating to health effect surveillance, the measuring or estimating of exposures, and environmental hazard information systems. The extent to which the applicant recognizes the utility, complexity, and challenges relating to the development of a state-wide and national environmental public health tracking (surveillance) network with direct electronic reporting and linkage capabilities, analysis requirements, impact on public health infrastructure and capacity, and the importance of information dissemination.

4. Collaborative Relationships (15 points)

The extent to which the applicant identifies key partners to carry out proposed activities and provides evidence that these organizations/agencies support and will be actively involved in carrying out the project. Letters of support from appropriate personnel, such as department chairs, must be provided if applicant is utilizing affiliate institutions to provide expertise in environmental epidemiology, environmental sciences, health education, health communication, clinical medicine, or medical informatics. The extent to which the applicant describes past and current collaborations with State and local health and environmental agencies, professional organizations, community-based organizations, and other relevant organizations will be considered.

5. Goals and Objectives: (15 points)

The extent to which the applicant clearly describes (a) short- and long-term goals; (b) project objectives that are specific, measurable and realistic; (c) an implementation schedule that is reasonable and appropriately reflects major steps in recipient activities.

6. Budget and Justification (Not Scored)

The extent to which the proposal demonstrates appropriateness and justification of the requested budget relative to the activities proposed.

7. Human Subjects Protection (Not Scored)

The extent to which the application adequately address the requirements of Title 45 CFR part 46 for the protection of human subjects. (Not scored; however, an application can be disapproved if the research risks are sufficiently serious and protection against risks is so inadequate as to make the entire application unacceptable).

I. Other Requirements

Technical Reporting Requirements

Provide CDC with the original plus two copies of:

1. Semi-annual progress reports (The progress report will include a data requirement that demonstrates measures of effectiveness). The progress report shall include the following items:

a. A brief project description

b. A comparison of actual accomplishments to the goals and objectives established for the period

c. In the case that established goals and objectives may not be accomplished or are delayed, documentation of both the reason for the deviation and the anticipated corrective action or a request for deletion of the activity for the project

d. A financial summary of obligated dollars to date as a percentage of total available dollars

e. Other pertinent information (i.e. curriculum vitae for new key personnel).

2. Financial status report, no more than 90 days after the end of the budget period.

3. Final financial and performance reports, no more than 90 days after the end of the project period.

Send all reports to the Grants Management Specialist identified in the “Where to Obtain Additional Information” section of this announcement.

The following additional requirements are applicable to this program. For a complete description of each, see Attachment II of the application kit.

AR-1 Human Subjects Requirements

AR-2 Requirements for Inclusion of Women and Racial and Ethnic Minorities in Research

AR-7 Executive Order 12372 Review

AR-9 Paperwork Reduction Act Requirements

AR-10 Smoke-Free Workplace Requirements

AR-11 Healthy People 2010

AR-12 Lobbying Restrictions

AR-22 Research Integrity

J. Where To Obtain Additional Information

This and other CDC announcements, the necessary applications, and associated forms can be found on the CDC Home Page Internet address— http://www.cdc.gov. Click on “Funding” then “Grants and Cooperative Agreements.”

For business management technical assistance, contact: Sonia Rowell, Grants Management Specialist, Procurement and Grants Office, Centers for Disease Control and Prevention, Announcement, PA 02180, 2920 Brandywine Road, Room 3000, Atlanta, GA 30341-4146, Telephone number: (770) 488-2724, Email address: srowell@cdc.gov.

For program technical assistance, contact: Amanda Niskar, National Center for Environmental Health, Centers for Disease Control and Prevention,1600 Clifton Rd, NE., MS-E19, Atlanta, GA 30338, Telephone number: (404) 498-1371, Email address: aniskar@cdc.gov.

Dated: July 11, 2002.
Sandra R. Manning,
Director, Procurement and Grants Office, Centers for Disease Control and Prevention.

Appendix I

National Environmental Public Health Tracking Network

Public health surveillance is the ongoing, systematic collection, analysis, interpretation, and dissemination of data on health effects in a population for the purpose of preventing and controlling morbidity and mortality. An environmental public health tracking (surveillance) network allows linkage and reporting of data available from health effects surveillance data, exposure data (measures of contaminants in the human body), and environmental hazard data (measures of contaminants in the environment). A coordinated and integrated environmental public health tracking (surveillance) network will (1) provide information on levels of contaminants in the environment from available monitoring data, levels of actual exposure in the population, health effect rates, and spatial and temporal trends; (2) facilitate research on possible associations between health effects and exposures/hazards; and (3) measure the impact of interventions such as regulatory and prevention strategies. With this information, federal, state and local agencies will be better prepared to develop and evaluate effective public health action to prevent or control diseases across our nation. Thacker et al., 1996, have provided additional information about environmental public health tracking (surveillance).

In fiscal year 2002, Congress appropriated funds to the Centers for Disease Control and Prevention (CDC) for “development and implementation of a nationwide environmental public health tracking network and capacity development in environmental health in state and local health departments”. Toward this end, CDC is currently soliciting proposals from State and local health departments. Applicants for funding as Centers for Excellence in Environmental Public Health Tracking should refer to Program Announcement 02179 for additional information about the program activities to be conducted by State and local health departments. (Internet address provided in reference list)

It is important to note that the national Environmental Public Health Tracking Program deals specifically with non-infectious diseases and other health effects with known or possible associations with environmental exposures. Health effects may include: birth defects, developmental disabilities, asthma, chronic respiratory disease, cancer, and neurological diseases. This list is not comprehensive. Additional environmentally related health effects targeted by “Healthy People 2010” and of interest to this program include health effects such as lead poisoning, pesticide poisoning, methemoglobinemia, and carbon monoxide poisoning.

The applicant should also refer to “Healthy People 2010” for a list of targeted environmental factors included in the Environmental Health focus area. These include objectives for reducing human exposure to pesticides, heavy metals, persistent chemicals (such as dioxin), organochlorine compounds, air contaminants (outdoor and indoor), and other environmental contaminants.

References

• Thacker SB, Stroup DF, Parrish RG, Anderson HA. Surveillance in Environmental Public Health: Issues, Systems, and Sources. American Journal of Public Health, 86(5):633-8; 1996.

• “Healthy People 2010”: http//www.health.gov/healthypeople.

• National Environmental Public Health Tracking Program, Program Announcement 02179: http://www.cdc.gov/od/pgo/funding/grantmain.htm.

• PEW Environmental Health Commission Reports: “America's Environmental Health Gap: Why the Country Needs a Nationwide Health Tracking Network”: http://healthyamericans.org/resources/reports/healthgap.pdf.

Other Selected References

• CDC Environmental Public Health Indicators Project: http://www.cdc.gov/nceh/tracking/indicators.htm.

• CDC National Electronic Disease Surveillance System (NEDSS): http://www.cdc.gov/nedss.

• CDC Updated Guidelines for Evaluating Public Health Surveillance Systems: http://www.cdc.gov/mmwr/pdf/rr/rr5013.pdf.

• Environmental Protection Agency's National Environmental Information Exchange Network: The Information Integration Initiative: http://www.epa.gov/oei/iiilive.htm.

—National Environmental Information Exchange Grant Program: http://www.epa.gov/neengprg.

—State/EPA Information Management Workgroup: http://www.epa.gov/ oei/imwg/.

—Environmental Data Standards Council: http://www.epa.gov/edsc.

• Public Health Data Conceptual Model: http://www.cdc.gov/nedss/DataModels/index.html.

• Public Health Information Technology Functions and Specifications (for Emergency Preparedness and Bioterrorism): http://www.cdc.gov/cic/functions-specs.

[FR Doc. 02-18110 Filed 7-17-02; 8:45 am]

BILLING CODE 4163-18-P